DEPARTMENT OF LABOR

Employment and Training Administration

[TA-W-85,505]

Red Shield Acquisition, D/B/A Old Town Fuel and Fiber, Old Town, Maine; Notice of Negative Determination Regarding Application for Reconsideration

By application dated October 3, 2014, United Steelworkers, Local 4-0080 (USW) requested administrative reconsideration of the Department of Labor's negative determination regarding eligibility to apply for worker adjustment assistance, applicable to workers and former workers of Red Shield Acquisition, d/b/a Old Town Fuel and Fiber, Old Town, Maine (subject firm). The determination was signed on September 23, 2014, and the Department's Notice of Determination was published in the Federal Register on October 21, 2014 (79 FR 62971). The subject firm is engaged in the production of bleached hardwood kraft pulp.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative determination was based on the Department's findings that the subject firm did not shift the production of articles like or directly competitive with bleached hardwood kraft pulp to a foreign country; that imports of articles like or directly competitive with the bleached hardwood kraft pulp did not contribute importantly to the workers' separation or threat of separation and to the decline in sales or production of the firm; and that the subject firm is not a Supplier or Downstream Producer to a firm that employed a group of workers who received a certification of eligibility under Section 222(a) of the Act, 19 U.S.C. 2272(a). During the investigation, the Department reviewed import data from the subject firm and its major declining customers, and within the industry.

In the request for reconsideration, USW asserts that the majority of the kraft pulp market is produced in foreign countries and that two of the subject firm's major customers use foreign-made pulp in their paper and tissue production process.

The request for reconsideration did not supply facts not previously considered; nor provide additional documentation indicating that there was either (1) a mistake in the determination of facts not previously considered or (2) a misinterpretation of facts or of the law justifying reconsideration of the initial determination. Based on these findings, the Department determines that 29 CFR 90.18(c) has not been met.

Conclusion

After careful review of the application and investigative findings, I conclude that there has been no error or misinterpretation of the law or of the facts which would justify reconsideration of the Department of Labor's prior decision. Accordingly, the application is denied.

Signed in Washington, DC, this 9th day of December, 2014.
Michael W. Jaffe
Certifying Officer, Office of Trade Adjustment Assistance.

[FR Doc. 2014-29313 Filed 12-15-14; 8:45 am]

BILLING CODE 4510-FN-P